COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List a product and services to be furnished by nonprofit agencies employing persons who are blind or have other severe disabilities.

DATES: Effective Date: October 19, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@AbilityOne.gov.

SUPPLEMENTARY INFORMATION: On July 25, 2008, and August 1, 2008, the Committee for Purchase From People Who Are Blind or Severely Disabled published notices (73 FR 43404 and 44961) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product:

Target, Silhouette

NSN: 6920-00-795-1807.

NPA: North Central Sight Services, Inc., Williamsport, PA.

Contracting Activity: Defense Supply Center Philadelphia, Philadelphia, PA.

Coverage: C-List for the government requirement of the Defense Supply Center Philadelphia, Philadelphia, PA.

Services:

Service Type/Location: Janitorial Services, San Francisco Maritime Museum Building, 900 Beach Street, San Francisco, CA.

San Francisco Hyde Street Pier, 2905 Hyde Street, San Francisco, CA.

San Francisco Maritime Visitor Center, 499 Jefferson Street, San Francisco, CA.

NPA: Toolworks, Inc., San Francisco, CA.

Contracting Activity: U.S. Department of the Interior, National Park Service, Oakland, CA.

Service Type/Location: Custodial Services—Forest Service—Rapid River, USDA Forest Service-District Office, 8181 Highway 2, Rapid River, MI.

NPA: Lakestate Industries, Escanaba, MI.

Contracting Activity: Department of Agriculture, Hiawatha National Forest, Escamba, MI.

This action does not affect current contracts awarded prior to the effective date of this addition or options that may be exercised under those contracts.

Kimberly M. Zeich,
Director, Program Operations.

[FR Doc. E8-21951 Filed 9-18-08; 8:45 am]

BILLING CODE 6353-01-P